DEPARTMENT OF THE INTERIOR

Bureau of Land Management

[WY-100-08-1310-NB]

Call for Nominations To Fill Two Vacancies on the Pinedale Anticline Working Group (PAWG)

AGENCY: Bureau of Land Management, Interior.

ACTION: Call for nominations for membership on the Pinedale Anticline Working Group (PAWG).

DATES: All nominations should be postmarked no later than 30 days from date of publication of this notice in the Federal Register. Final appointments will be made by the Secretary of the Interior.

ADDRESSES: Nominations should be sent to Mr. David Crowley, Pinedale Anticline Working Group Coordinator, Bureau of Land Management, Pinedale Field Office, 1625 West Pine Street, P.O. Box 768, Pinedale, Wyoming 82941, or via e-mail to dave_crowley@blm.gov.

SUMMARY: On June 25, 2008, the Secretary of the Interior renewed the Charter for the PAWG and Task Groups. There are currently two vacancies on the PAWG for which nominations are being solicited: A representative of (1) Sublette County Government, and (2) the oil and gas operators. Section 309 of FLPMA directs the Secretary to select 10 to 15 member citizen-based advisory councils that are consistent with the requirements of the Federal Advisory Committee Act (FACA). Individuals or groups who wish to submit a nomination or are interested in becoming a member of the PAWG should submit the specified information within 30 days of this Notice. Nomination forms may be found at http://www.blm.gov/wy/st/en/field_offices/Pinedale/pawg.html.

FOR FURTHER INFORMATION CONTACT: Mr. David Crowley, Pinedale Anticline Working Group Coordinator, Bureau of Land Management, Pinedale Field Office, 1625 West Pine Street, P.O. Box 768, Pinedale, Wyoming 82941, telephone (307) 367-5323. dave_crowley@blm.gov.

SUPPLEMENTARY INFORMATION: The Pinedale Anticline Working Group (PAWG) was established as a result of the Record of Decision for the Pinedale Anticline Environmental Impact Statement (2000). On June 25, 2008, the Secretary of the Interior renewed the PAWG Charter. The PAWG advises the BLM on the development and implementation of monitoring plans and adaptive management decisions as development of the Pinedale Anticline Natural Gas Field proceeds. The PAWG is composed of nine members representing governmental agencies, industrial operators, interest groups and local communities. Members are appointed to the PAWG to serve a 2-year term. Nominations are currently being taken to represent: (1) Sublette County Government and (2) the oil and gas operators. Additional information can be found at: http://www.blm.gov/wy/st/en/field_offices/Pinedale/pawg.html.

The PAWG Charter established several membership selection criteria and operational procedures that were developed once the Working Group became active. These are listed as follows:

1. The PAWG is composed of nine members who reside in the State of Wyoming. The PAWG members will be appointed by and serve at the pleasure of the Secretary of the Interior.

2. All members should have demonstrated an ability to analyze and interpret data and information, evaluate proposals, identify problems, and promote the use of collaborative management techniques (such as, long term planning, management across jurisdictional boundaries, data sharing, information exchange, and partnerships), and a knowledge of issues involving oil and gas development activities.

3. The service of the PAWG members shall be as follows:

a. PAWG members will be appointed to 2-year terms, subject to removal by the Secretary of the Interior. At the discretion of the Secretary of the Interior, members may be reappointed to additional terms.

b. The Chairperson of the PAWG will be selected by the PAWG.

c. The term of the Chairperson will not exceed 2 years.

Individuals, or representatives of groups, who wish to become members of the Pinedale Anticline Working Group should complete and submit the following information to this office within 30 days after publication in the Federal Register:

1. Representative Group to be considered for: Sublette County Government or oil and gas operators:

2. Nominee's Full Name:

3. Business Address:

4. Business Phone:

5. Home Address:

6. Home Phone:

7. Occupation/Title:

8. Qualifications (education including colleges, degrees, major field of study and/or training):

9. Career Highlights (significant related experience, civic and professional activities, elected offices, prior advisory committee experience, or career achievements related to the interest to be represented):

10. Experience in collaborative management techniques, such as long term planning, management across jurisdictional boundaries, data sharing, information exchange and partnerships:

11. Experience in data analysis and interpretation, problem identification and evaluation of proposals:

12. Knowledge of issues involving oil and gas development:

13. Indicate Specific Area of Interest to be Represented from the following:

(1) Sublette County,

(2) The Town of Pinedale,

(3) The oil and gas operators,

(4) The environmental community,

(5) The livestock operators, and

(6) The adjacent landowner.

14. List any leases, licenses, permits, contracts or claims that you hold which involve lands or resources administered by the BLM:

15. Attach two or three Letters of Reference from interests or organization to be represented:

16. Nominated by: Include Nominator's name, address and telephone number(s).

17. Date of nomination: Groups should nominate more than one person and indicate their preferred order of appointment selection.

Before including your address, phone number, e-mail address, or other personal identifying information in your nomination form, you should be aware that your entire nomination form—including your personal identifying information—may be made publicly available at any time. While you can ask us in your nomination form to withhold your personal identifying information from public review, we cannot guarantee that we will be able to do so.

Donald A. Simpson,
Acting State Director.

[FR Doc. E8-22497 Filed 9-24-08; 8:45 am]

BILLING CODE 4310-22-P